DEPARTMENT OF HEALTH AND HUMAN SERVICES

Centers for Disease Control and Prevention

[30Day-22-1262]

Agency Forms Undergoing Paperwork Reduction Act Review

In accordance with the Paperwork Reduction Act of 1995, the Centers for Disease Control and Prevention (CDC) has submitted the information collection request titled Barriers and Facilitators to Expanding the NHBS to Conduct HIV Behavioral Surveillance Among Transgender Women (NHBS-Trans) to the Office of Management and Budget (OMB) for review and approval. CDC previously published a “Proposed Data Collection Submitted for Public Comment and Recommendations” notice on November 2, 2021 to obtain comments from the public and affected agencies. CDC received four comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Barriers and Facilitators to Expanding the NHBS to Conduct HIV Behavioral Surveillance Among Transgender Women (NHBS-Trans) (OMB Control No. 0920-1262, Exp. 4/30/2022)—Revision—National Center for HIV, Viral Hepatitis, STD, and TB Prevention (NCHHSTP), Centers for Disease Control and Prevention (CDC).

Background and Brief Description

The purpose of this project is to demonstrate the feasibility of a national surveillance system to monitor behaviors of transgender women that are related to Human Immunodeficiency Virus (HIV) transmission and prevention in the United States. Findings of the NHBS-Trans project will be used by CDC and local health department staff to assess changes made to the NHBS-Trans system to monitor the prevalence of HIV among transgender women of color and to strengthen understanding of the behavioral and environmental HIV risk factors that contribute to the disproportionately high prevalence of HIV within this population. Improved surveillance of transgender women is necessary to help CDC and health departments identify areas for community-level interventions, track the progress of communities in implementing change, and evaluate interventions that seek to reduce HIV risk factors and increase engagement in HIV prevention and care.

CDC requests a three-year approval for a revised information collection. Based on completion of data collection in 2019-2020 and evaluation of the previous efforts, project activities and methods have expanded to allow for remote variants of our in-person methods, such as interview by videoconference or phone. The number of Metropolitan Statistical Areas (MSAs) participating in NHBS-Trans will increase (from nine to up to 14) and the number of respondents recruited per project area will increase from 200 to 300 adult minority transgender women (4,200 interviews total). Selected content of the eligibility screener and behavioral assessment was revised.

Data will be collected through anonymous, in-person interviews conducted with persons systematically selected from up to 14 MSAs throughout the United States. A brief screening interview will be used to determine eligibility for participation in the behavioral assessment. All participants will be provided HIV testing and referral to services (as needed) following CDC protocol. Each participant will respond one time over the course of the three-year project. Participants will be recruited through respondent-driven sampling (RDS), a scientifically proven recruitment strategy for reaching hidden, hard-to-reach, or stigmatized populations. To assess non-response bias from RDS, peer recruiters will be debriefed about their recruitment efforts when they return to the field site. This information will be used to understand if certain racial (or ethnic) groups are not responding or if persons are not responding for a particular reason. Interview data will be recorded on secure portable computers, without internet connections. Data will be transferred to secure, encrypted data servers. Data will be stored at CDC and shared with local health departments in accordance with existing data use agreements and the Assurance of Confidentiality for HIV/AIDS Surveillance Data. Data will be disseminated in aggregate through academic and agency publications, presentations, and reports. The information will be collected over a three-year period beginning no later than two months after OMB approval.

The NHBS-Trans behavioral assessment and optional HIV testing are anonymous (neither names nor Social Security numbers are collected). Data that will be collected through NHBS-Trans, while sensitive, are not personally identifying. These data will provide estimates of (1) behavior related to the risk of HIV and other sexually transmitted diseases, (2) prior testing for HIV, and (3) use of HIV prevention services. No other federal agency systematically collects this type of information from persons at risk for HIV infection. These data have substantial impact on prevention program development and monitoring at the local, state, and national levels.

The burden table below shows the estimated annualized burden hours for the participants' time. Annually, 1,540 participants will complete an eligibility screener (an average of five minutes to complete), 1,400 participants will complete the Behavioral Assessment (an average of 40 minutes to complete), and 1,400 will complete the Recruiter Debriefing Form (an average of two minutes to complete). The estimated total annualized burden is 1,108 hours. Participation of respondents is voluntary, and there are no costs to respondents other than their time.

Estimated Annualized Burden Hours
Type of respondents | Form name | Number of respondents | Number of responses per respondent | Average burden per response (in hours)
Transgender Women, >18 years old | Eligibility Screener | 1,540 | 1 | 5/60
Eligible and Consenting Respondents | NHBS-Trans Behavioral Assessment | 1,400 | 1 | 40/60
Peer Recruiters | Recruiter Debriefing Form | 1,400 | 1 | 2/60

Jeffrey M. Zirger,
Lead, Information Collection Review Office, Office of Scientific Integrity, Office of Science, Centers for Disease Control and Prevention.

[FR Doc. 2022-05756 Filed 3-17-22; 8:45 am]

BILLING CODE 4163-18-P